DEPARTMENT OF HEALTH AND HUMAN SERVICES

Establishment of the Center for Forecasting and Outbreak Analytics

AGENCY: Centers for Disease Control and Prevention, HHS.

ACTION: Notice.

SUMMARY: The Centers for Disease Control and Prevention (CDC) has modified its structure. This notice announces the establishment of the Center for Forecasting and Outbreak Analytics.

DATES: This reorganization was approved by the Secretary of Health and Human Services on December 19, 2022, and became effective on January 4, 2023.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 87 FR 51670-51675, dated August 23, 2022) is amended to reflect the reorganization of the Office of the Director, Centers for Disease Control and Prevention.

Background: Establishing the Center for Forecasting and Outbreak Analytics is the result of the National Security Memorandum #1 (Section 5B) indicating the need to establish an interagency national Center and modernize global early warning and trigger systems to prevent, detect, respond to, and recover from emerging biological threats, as well as Section 2404 of the American Rescue Plan Act of 2021, Public Law 117-2, which provides funding in support of public health data surveillance and analytic infrastructure modernization initiatives at the Centers for Disease Control and Prevention. Specifically, the changes are as follows:

Under Part C, Section C-B, Organization and Functions, make the following change:

Center for Forecasting and Outbreak Analytics (CD)

The mission of the Center for Forecasting and Outbreak Analytics (CFA) is to advance U.S. forecasting, outbreak analytics, and surveillance capacities related to disease outbreaks, epidemics, and pandemics to support public health response and preparedness. To carry out its mission, CFA will: (1) forecast, model, and characterize the risks associated with outbreaks; (2) inform public health decision-makers and the public; (3) innovate public health solutions and capabilities related to forecasting, surveillance, and analytics; (4) accelerate access to and use of data for public health decision-makers to mitigate the effects of disease threats; and (5) serves as a hub for research and development for public health analytics and modeling.

Office of the Director (CD1)

(1) Provides strategic direction regarding forecasting, surveillance, and data analytics; (2) coordinates strategic activities in areas of outbreak, epidemic and pandemic forecasting, surveillance, and data analytics within CDC and across the United States Government (USG); (3) guides the facilitation and coordination across federal, state, tribal, local, or territorial (STLT), and healthcare entities and engagement with relevant federal advisory committees with respect to disease modeling, forecasting, outbreak analytics, and critical data collections to support those efforts; (4) manages, directs, coordinates, and evaluates the activities of the Center; (5) defines goals and objectives for policy formation, scientific oversight, and guidance in program planning and development related to forecasting, surveillance, and analytics; (6) provides oversight for the evaluation of programmatic performance of forecasting, surveillance, and analytics; (7) manages inter-governmental and external affairs and cultivates strategic partnerships related to CFA activities; (8) ensures scientific quality, integrity, and clearance across the Center; (9) provides guidance and strategic oversight to the processes within the Center that access, collect, manage, analyze, and visualize data, including assistance for involvement with relevant federal advisory committees and other stakeholder groups; (10) collaborates and consults with other Centers, working groups, state and local health departments, other federal agencies, international partners, and other partners on CFA activities; (11) represents CFA and CDC at professional and scientific meetings on topics consistent with CFA's mission; and (12) establishes and oversees the two offices within the Office of the Director.

Office of Policy and Communications (CD12)

(1) Provides leadership on issues management, budget formulation, and performance integration; (2) reviews, coordinates, and prepares legislation, briefing documents, Congressional testimony, and other legislative matters; (3) coordinates the development, review, and approval of federal regulations, Federal Register notices and announcements, Freedom of Information Act requests, General Accounting Office and Inspector General reports, and related activities for the Center; and (4) establishes and implements a communication strategy in support of CFA overarching goals and priorities.

Office of Management Services (CD13)

(1) Provides overall budgetary, employee relations, human capital management, logistics, and administrative support; (2) provides direction, strategy, analysis, and operational support in all aspects of human capital management, including workforce and career development and human resources operations; (3) manages operational budget processes, including planning, execution, and monitoring; (4) manages acquisition and grants management processes; (5) serves as point of contact on all matters concerning facilities management, property management, records management, equipment, travel, and space utilization and improvements; and (6) serves as coordinator of continuity of operations activities.

Inform Division (CDB)

(1) Communicates with expert disease modelers and emergency responders to provide public health policy decision support; (2) shares timely, actionable information with the federal government, STLT leaders, international partners, and the public; (3) works with and through public health partners to provide decision support and technical assistance; (4) develops, maintains, enhances data visualization capabilities to support CFA mission; (5) coordinates real-time monitoring efforts between CDC subject matter experts and USG interagency; and (6) maintains liaison with related Center staff, other officials of CDC, USG, and private sector partners.

Office of the Director (CDB1)

(1) Works with CFA OD to ensure spending plans and budgets are in line with overall division strategies and priorities; (2) ensures the CFA strategy is executed by the Inform Division and aligned with overall CDC goals; (3) develops execution strategies for outbreak communication, data visualization, and real-time monitoring efforts; (4) builds leadership at the division and team levels; (5) identifies and coordinates synergies between the division and federal, STLT, and international partners; (6) works directly with public health partners to provide decision support; (7) proposes resource priorities throughout the budget cycle; (8) works with CDC procurement office to facilitate procurement opportunities with industry partners; (9) ensures scientific quality, integrity, and clearance across the division; and (10) liaises with related Center staff, other officials of CDC, USG, and private sector partners.

Predict Division (CDD)

(1) Generates forecasts and analyses to support outbreak preparedness and response efforts; (2) provides real-time monitoring of disease outbreaks; (3) collaborates with federal, state, territorial, local, and tribal leaders and international partners on performing analytics to support decision-making; (4) assists with tabletop exercises to match policies and resources with forecasts; (5) supports the development of pandemic planning guidance; (6) develops scientific collaborations to harmonize analytic approaches and develop tools; (7) maintains analytic data sets and models during emergencies to address questions that arise with short latency; (8) identifies and gains access to sources of data relevant to outbreak analytics, forecasting, and modeling; and (9) builds, maintains, and improves modeling and forecasting platforms to be deployed during public health emergencies, including public-facing forecasts.

Office of the Director (CDD1)

(1) Works with CFA Office of the Director to ensure spending plans and budgets are in line with overall division strategies and priorities; (2) ensures the CFA strategy is executed by the Predict Division and aligned with overall CDC goals; (3) develops execution strategies for pandemic forecasting, surveillance, and outbreak response; (4) builds leadership at the division and team levels; (5) evaluates the strategies, focus, and prioritization of the division; (6) identifies and coordinates synergies between the division and federal, STLT, and international partners; (7) facilitates tabletop exercises; (8) proposes resource priorities throughout the budget cycle; (9) works with CDC procurement office to facilitate procurement opportunities with industry partners; (10) ensures scientific quality, integrity, and clearance across the division; and (11) oversees the development and successful deployment of modeling and forecasting capabilities in emergency response situations.

Real Time Monitoring Branch (CDDB)

(1) Monitors outbreak events through established analytical tools and surveillance methods; (2) generates short-term forecasts of disease spread during an active outbreak; (3) utilizes data of previous outbreaks to monitor and forecast the behavior of potential and/or current outbreaks; and (4) generates multiple scenario models of potential/current outbreaks using established methodologies.

Analytics Response Branch (CDDC)

(1) Utilizes established analytical tools to help inform decision making for key partners during a potential and/or current outbreak; (2) Analyzes disease spread through existing data sources to identify key populations/settings at highest risk; (3) identifies potential economic impact of a forecasted/ongoing outbreak event; (4) provides essential information to key partners in decisions surrounding community migration; (5) utilizes data analytics to inform decisions on potential variants of a pathogen; and (6) works with key partners to inform decisions on medical countermeasures during an active outbreak.

Technology and Innovation Division (CDE)

(1) Oversees the development, maintenance, and improvement of CFA's analytical architecture; (2) provides high-level support for CFA's strategic direction with respect to technology and innovative practices; (3) oversees product development for CFA and CFA's customers; (4) collaborates with other divisions within CFA to support research and development and provide technical assistance on an adhoc basis; (5) oversees the deployment of grants and cooperative agreements to support innovation within the Center.

Office of the Director (CDE1)

(1) Works with CFA OD to ensure spending plans and budgets are in line with overall division strategies and priorities; (2) ensures that the CFA strategy is executed by the Technology & Innovation Division and aligned with overall CDC goals; (3) develops execution strategies for maintaining CFA's analytical architecture and supporting research and development across the division; (4) builds leadership at the division and branch levels; (5) coordinates with other divisions across CFA to support modeling, code development, and general research & development; (6) maintains strategic relationships with academic, private sector, and interagency partners; (7) works with CDC procurement office to facilitate procurement opportunities with industry partners; and (9) ensures scientific quality, integrity, and clearance across the division.

Technology Branch (CDEB)

(1) Establishes and maintains CFA analytical architecture; (2) devises information technology practices and procedures, and provides direction, innovation, planning, and evaluation for information technology systems, services, security, and resources for CFA; (3) monitors projects for effective focus on the analytical, informatics, data management, and statistical infrastructure to deliver timely, quality data, accurate analysis services, and dependable software products and systems to customers and partners; (4) develops, maintains, and operates analytics technology platforms; (5) engages in product development for CFA systems, enterprise systems, and analytical tools; (6) supports CFA in modeling and general code development, data engineering, and software development; (7) enables cloud environment architecture, development, deployment, and access; (8) supports CDC, USG efforts to maintain, enhance, and develop relevant systems that will address the CFA mission; and (9) maintains awareness of trends in technology and evaluates technology that would benefit the CFA mission.

Innovate Branch (CDEC)

(1) Supports research and development to improve outbreak forecasts and analyses; (2) collaborates with academic, private sector, and interagency partners; (3) creates translational tools, products, and enterprise enhancements to make analyses of pandemic data flexible, fast, and scalable for CFA customers including STLT authorities; (4) provides grants and cooperative agreements to support innovations in data analytics and modeling.

Delegations of Authority

All delegations and redelegations of authority made to officials and employees of affected organizational components will continue in them or their successors pending further redelegation, provided they are consistent with this reorganization.

(Authority: 44 U.S.C. 3101)

Xavier Becerra,
Secretary of Health and Human Services.

[FR Doc. 2023-00151 Filed 1-6-23; 8:45 am]

BILLING CODE 4160-18-P